DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR part 1320, Reporting and Record Keeping Requirements, the National Park Service (NPS) invites public comments on a reinstatement, with change, of a previously approved collection for which approval has expired (OMB# 1024-0216).

DATES: Public comments on this Information Collection Request (ICR) will be accepted on or before July 14, 2008.

ADDRESSES: Send Comments To: Jennifer Hoger Russell, Park Studies Unit, College of Natural Resources, University of Idaho, P.O. Box 44139, Moscow, ID 83844-1139; Phone: (208) 885-4806; Fax (208) 885-4261, e-mail: jhoger@uidaho.edu. Also, you may send comments to Leonard Stowe, NPS Information Collection Clearance Officer, 1849 C St., NW., (2605), Washington, DC 20240, or by e-mail at Leonard_stowe@nps.gov. All responses to this notice will be summarized and included in the request for the Office of Management and Budget (OMB) approval. All comments will become a matter of public record.

To Request a Draft of Proposed Collection of Information Contact: Jennifer Hoger Russell, Park Studies Unit, College of Natural Resources, University of Idaho, P.O. Box 44139, Moscow, ID 83844-1139; Phone: 208/885-4806; Fax: 208/885-4261, e-mail: jhoger@uidaho.edu.

FOR FURTHER INFORMATION CONTACT: Dr. James Gramann, NPS Social Science Program, 1201 “Eye” St., Washington, D.C. 20005; or via phone 202/513-7189; or via e-mail at James_Gramann@partner.nps.gov. You are entitled to a copy of the entire ICR package free of charge.

SUPPLEMENTARY INFORMATION: Title: National Park Service Visitor Survey Card.

Bureau Form Number: None.

OMB Number: 1024-0216.

Expiration Date: To be requested.

Type of Request: Reinstatement, with change, of a previously approved collection for which approval has expired.

Description of Need: The National Park Service Act of 1916, 38 Stat 535, 16 U.S.C. 1, et seq., requires that the NPS preserve national parks for the use and enjoyment of present and future generations. At the field level, this means resource preservation, public education, facility maintenance and operation, and physical developments as are necessary for public use, health, and safety. Other Federal rules (National Environmental Policy Act, 1969 and NPS Management Policies) require visitor use data in the impact assessment of development on users and resources as part of each park's general management plan. The Government Performance and Results Act (GPRA) of 1993 (Pub. L. 103-62) requires that the NPS develop goals to improve program effectiveness and public accountability and to measure performance related to these goals. The Visitor Survey Card (VSC) Project measures performance toward those goals through a short visitor survey card. The project is an element of the NPS Strategic Plan and the Department of the Interior (DOT) Strategic Plan.

The NPS has used the VSC to conduct surveys at approximately 330 National Park System units annually since 1998. The purpose of the VSC is to measure visitors' opinions about park facilities, services, and recreational opportunities in each park unit and Systemwide. This effort is required by GPRA and other NPS and DOT strategic planning efforts. Data from the proposed survey is needed to assess performance regarding NPS GPRA goals IIa1 and IIb1. The relevant NPS GPRA goals state:

II. Provide for the public enjoyment and visitor experience of parks; IIa1. 95% of park visitors are satisfied with appropriate park facilities, services, and recreational opportunities; IIb1. 86% of park visitors understand and appreciate the significance of the park they are visiting.

In addition, the survey collects data to support the DOI Strategic Plan goal on visitor satisfaction with the value for entrance fees paid to access public lands managed by the DOI. NPS performance on all goals measured in this study will contribute to DOI Department-wide performance reports. Results of the VSC will also be used by park managers to improve visitor services at the approximately 330 units of the National Park System where the survey is administered.

The VSC is a component of the Visitors Services Project, which is funded by the NPS through a cooperative agreement with the Park Studies Unit at the University of Idaho. In 1998, the NPS received clearance for the Visitor Survey Card (OMB# 1024-0216). When that three-year clearance expired on May 31, 2001, a new clearance was acquired under the Programmatic Approval for NPS-Sponsored Public Surveys (1024-0224, NPS #01-003). Clearance was again acquired in 2005 under the Programmatic Approval for NPS-Sponsored Public Surveys (10240224, NPS #05-004). This request is another extension of the on-going study.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Automated data collection: This information will be collected via mail-back surveys and on-site drop-off surveys using locked collection boxes. No automated data collection will take place.

Description of respondents: Visitors to approximately 330 NPS units.

Estimated average number of respondents: 132,000 respondents (95,000 non-respondents and 37,000 respondents).

Estimated average number of responses: 132,000 responses (95,000 non-responses and 37,000 responses).

Estimated average time burden per respondent: 1 minute for non-respondents and 3 minutes for respondents.

Frequency of Response: 1 time per respondent.

Estimated total annual reporting burden: 3,433 hours.

Dated: May 5, 2008.
Leonard E. Stowe,
NPS, Information Collection Clearance Officer.

[FR Doc. E8-10411 Filed 5-12-08; 8:45 am]

BILLING CODE 4312-53-M